DEPARTMENT OF COMMERCE

National Oceanic and Atmospheric Administration

RIN 0648-XE270

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. This Exempted Fishing Permit would allow commercial fishing vessels to fish outside of the limited access sea scallop regulations in support of study investigating coastal spawning of winter flounder in Southern New England.

Regulations under the Magnuson-Stevens Fishery Conservation and Management Act require publication of this notification to provide interested parties the opportunity to comment on applications for proposed Exempted Fishing Permits.

DATES: Comments must be received on or before November 9, 2015.

ADDRESSES: You may submit written comments by any of the following methods:

• Email: nmfs.gar.efp@noaa.gov. Include in the subject line “DA15-063 CFF SNE Essential Fish Habitat Study EFP.”

• Mail: John K. Bullard, Regional Administrator, NMFS, Greater Atlantic Regional Fisheries Office, 55 Great Republic Drive, Gloucester, MA 01930. Mark the outside of the envelope “DA15-063 CFF SNE Essential Fish Habitat Study EFP.”

FOR FURTHER INFORMATION CONTACT: Shannah Jaburek, Fisheries Management Specialist, 978-282-8456.

SUPPLEMENTARY INFORMATION: NOAA has awarded the Coonamesset Farm Foundation (CFF) a grant through the 2015 Saltonstall-Kennedy grant program, in support of a project titled “Investigating Offshore Essential Fish Habitat of Southern New England Winter Flounder.” To conduct this research, CFF submitted a complete application for an EFP on August 4, 2015. The applicant proposes to investigate questions associated with spawning winter flounder in Southern New England (SNE) by conducting multiple research activities, which include:

1. A paired scallop dredge survey to identify and monitor the distribution of winter flounder;

2. Test dredge gear twine top configurations and apron lengths to reduce finfish bycatch;

3. Attempt to observe winter flounder spawning behavior using a remotely operated vehicle (ROV);

4. Conduct a benthic habitat video survey; and

5. Sample for a winter flounder eggs using a plankton net.

CFF is requesting exemptions that would allow commercial fishing vessels be exempt from the Atlantic sea scallop days-at-sea (DAS) allocations at 50 CFR 648.53(b); crew size restrictions at § 648.51(c); Atlantic sea scallop observer program requirements at § 648.11(g); and possession limits and minimum size requirements specified in 50 CFR part 648, subsections B and D through O, for sampling purposes only. Any fishing activity conducted outside the scope of the exempted fishing activity would be prohibited.

Five vessels would conduct the dredge survey and gear testing on six 5-day trips, for 30 total DAS. Each trip would complete approximately 60 dredge tows per trip for an overall total of 360 tows for the project. The project would also conduct a single video survey trip utilizing a benthic sled. Trips would take place in the open areas of SNE in December 2015-May 2016.

All dredge tows would use two 15-foot (4.57-m) Turtle Deflector Dredges (TDD) and be conducted in tandem for a duration of 30 minutes at a tow speed of approximately 4.8 knots. One dredge would be rigged with a 7-row apron and 60-mesh wide twine top while the other dredge would be rigged with a 5-row apron and 45-mesh wide twine top. To examine factors that may influence flatfish bycatch rates such as habitat characteristics and fish behavior in response to the TDD, each dredge would have an underwater camera attached to the bale bar. When researchers identify large numbers of spawning winter flounder during the dredge survey, they would deploy the ROV to film spawning behavior interactions.

For all tows, researchers would count and weigh sea scallop catch. Researchers would measure scallops from one randomly selected basket from each dredge in 5-mm increments to determine size selectivity. Researchers would sort finfish catch by species then count, weigh, and measure finfish catch in 1-mm increments. Researchers would also weigh, sex, and assess the reproductive stage of all winter flounder greater than 32 cm. The vessels would not retain catch for longer than needed to conduct sampling and vessels would not land any catch for sale. CFF researchers would accompany all trips, and be in charge of sampling activities.

Project Catch Estimates
Species | lb | kg
Scallops | 21,000 | 9,525
Yellowtail | 500 | 227
Winter Flounder | 1,500 | 680
Windowpane Flounder | 2,600 | 1,179
Monkfish | 8,000 | 3,629
Barndoor Skate | 500 | 227
NE Skate Complex | 50,000 | 22,680
Other Fish | 1,500 | 680

The project would also use a commercial vessel for a single dedicated video trip utilizing a benthic underwater survey sled. At each of the survey stations the benthic sled would be deployed and towed for 5-10 minutes at a speed of 1.5-2 knots. Researchers would attach a live feed video camera transmitting video back to the vessel, and two underwater cameras taking high definition still shots to the benthic sled. There would also be two low level lights attached to the benthic sled in order to illuminate the area for the cameras. The video footage and photos from the benthic sled survey would be compared to still shots take during the dredge surveys. Researchers would also attach a plankton net to the benthic sled. The plankton net would be 101.60 cm long with a 27.94 x 45.72-cm opening, and a mesh size of 0.05 cm. The plankton net would allow researchers to see if there are winter flounder eggs present at each of the survey stations.

CFF has requested these exemptions to allow them to conduct experimental dredge towing without being charged DAS. Participating vessels need crew size waivers to accommodate science personnel and possession waivers will enable them to conduct finfish sampling activities. NMFS would waive observer notification requirements because the research activity is not representative of a commercial scallop fishing trip.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: October 20, 2015.
Emily H. Menashes,
Acting Director, Office of Sustainable Fisheries, National Marine Fisheries Service.

[FR Doc. 2015-27003 Filed 10-22-15; 8:45 am]

BILLING CODE 3510-22-P